DEPARTMENT OF DEFENSE

Office of the Secretary

[Docket ID DoD-2010-OS-0148]

Proposed Collection; Comment Request

AGENCY: Business Transformation Agency, DoD.

ACTION: Notice.

SUMMARY: In compliance with Section 3506(c)(2)(A) of the Paperwork Reduction Act of 1995, the Business Transformation Agency announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 25, 2011.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Business Transformation Agency, Attn: Wide Area Workflow Program Management Office, 1851 S. Bell Street, Arlington, VA 22240-5291.

Title; Associated Form; and OMB Number: Wide Area Work Flow (WAWF); OMB Control Number 0704-TBD.

Needs and Uses: Wide Area Workflow (WAWF) is a DoD enterprise, web-based system that allows secure electronic submission, acceptance and procession of invoices and receiving reports in a real-time, paperless environment, resulting in complete transaction visibility, fewer interest penalties and reduced processing time. WAWF provides the Department and its suppliers the single point of entry to generate, capture and process invoice, acceptance and payments-related documentation and data to support the DoD asset visibility, tracking and payment processes. WAWF also provides the department with a single point of entry to generate, capture and process vouchers for miscellaneous payment claims. Information in identifiable form must be collected to verify the identity and banking information of claimants in order to ensure that benefits are paid to the correct individual. WAWF is not a forms based application but it accepts any supporting documentation as attachments, including the following forms in PDF format: DD1375 Request for Payment of Funeral and/or Internment Expenses (0704-0030); SF182 Authorization, Agreement and Certification of Training; SF270 Request for Advance or Reimbursement (0348-0004); SF1157 Claims for Witness Attendance Fees, Travel and Miscellaneous Expenses. The complete list of miscellaneous payment categories processed through WAWF is available in appendix A of the DoD Guidebook for Miscellaneous Payments.

Affected Public: DoD military personnel, civilian employees, dependents, members of the general public to include Foreign Nationals, and vendors providing goods or services to the DoD.

Annual Burden Hours: 653,230 hours.

Number of Respondents: 59,683.

Responses per Respondent: Average 65.67.

Average Burden per Response: 10 minutes.

Frequency: On occasion.

SUPPLEMENTARY INFORMATION:

Summary of Information Collection

The purpose of information collection is to monitor the status of and electronically process invoices, receiving reports and individual claims for payment through the review and validation and approval phases for submission to the Defense Finance and Accounting Service for payment.

Dated: November 12, 2010.
Patricia L. Toppings,
OSD Federal Register Liaison Officer, Department of Defense.

[FR Doc. 2010-29762 Filed 11-24-10; 8:45 am]

BILLING CODE 5001-06-P